EQUAL EMPLOYMENT OPPORTUNITY COMMISSION

29 CFR Part 1610

Updating Addresses of Commission's Offices in Las Vegas, Nevada and Mobile, AL

AGENCY: Equal Employment Opportunity Commission.

ACTION: Final rule.

SUMMARY: This final rule revises existing EEOC regulations to update two office addresses.

EFFECTIVE DATE: February 7, 2007.

FOR FURTHER INFORMATION CONTACT: Thomas J. Schlageter, Assistant Legal Counsel, (202) 663-4668, or James G. Allison, Senior Attorney, (202) 663-4661, Office of Legal Counsel, 1801 L St., NW., Washington, DC 20507. Copies of this final rule are available in the following alternate formats: large print, braille, electronic computer disk, and audio-tape. Requests for this notice in an alternative Format should be made to the Publications Center at 1-800-699-3362 (voice), 1-800-800-3302 (TTY), or 703-821-2098 (FAX—this is not a toll free number).

SUPPLEMENTARY INFORMATION: The Commission investigates and litigates charges of employment discrimination through its various offices located throughout the country. On July 8, 2005, the Commission voted to open two new local offices, one in Las Vegas, Nevada and one in Mobile, Alabama. These two new office have now been opened. This Final Rule incorporates the addresses of these newly opened offices in the Commission's regulations by modifying 29 CFR 1610.4(c) to reflect the new offices' addresses.

Regulatory Procedures

Executive Order 12866

This action pertains to agency organization, management or personnel matters and, therefore, is not a rule within the meaning of section 3(d)(3) of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because it does not affect any small business entities. The regulation affects only the Equal Employment Opportunity Commission. For this reason, a regulatory flexibility analysis is not required.

Unfunded Mandates Reform Act of 1995

This final rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action pertains to the Commission's management, personnel and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Part 1610

Administrative practice and procedure, Equal Employment Opportunity.

Dated: January 24, 2007.
For the Commission.
Naomi C. Earp,
Chair.

For the reasons set forth in the preamble, part 1610 is amended as follows:

PART 1610—AVAILABILITY OF RECORDS

1. The authority citation for part 1610 continues to read as follows:

Authority: 42 U.S.C. 2000e-12(a), 5 U.S.C. 552 as amended by Pub. L. 93-502, Pub. L. 99-570, and Pub. L. 105-231; for § 1610.15, non-search or copy portions are issued under 31 U.S.C. 9701.

§ 1610.4 [Amended]

2. Amend § 1610.4(c) as follows:

a. After the words “Las Vegas Local Office (Los Angeles District),” remove the words “not yet open” and add, in their place, the words “333 Las Vegas Blvd. South, Suite 8112, Las Vegas, Nevada 89101.”

b. After the words “Mobile Local Office (Birmingham District),” remove the words “not yet open” and add, in their place, the words “63 South Royal Street, Suite 504, Mobile, Alabama 36602.”

[FR Doc. E7-1933 Filed 2-6-07; 8:45 am]

BILLING CODE 6570-01-P